DEPARTMENT OF THE TREASURY

Internal Revenue Service

26 CFR Part 1

[REG-108522-00]

RIN 1545-AY25

Recognition of Gain on Certain Transfers to Certain Foreign Trusts and Estates; Correction

AGENCY: Internal Revenue Service (IRS), Treasury.

ACTION: Correction to notice of proposed rulemaking.

SUMMARY: This document contains a correction to a notice of proposed rulemaking that was published in the Federal Register on Monday, August 7, 2000 (65 FR 48198) relating to the recognition of gain on certain transfers to certain foreign trusts and estates.

FOR FURTHER INFORMATION CONTACT: Karen A. Rennie Quarrie at (202) 622-3880 (not a toll-free number).

SUPPLEMENTARY INFORMATION:

Background

The notice of proposed rulemaking that is the subject of this correction is under section 684 of the Internal Revenue Code.

Need for Correction

As published, the notice of proposed rulemaking contains errors that may prove to be misleading and are in need of clarification.

Correction of Publication

Accordingly, the publication of the notice of proposed rulemaking (REG-108522-00), that was the subject of FR Doc. 00-19896, is corrected as follows:

§ 1.684-3 [Corrected]

On page 48202, column 1, § 1.684-3(f), the first line of Example 1, the language “Example 1. Transfer to owner trust. In” is corrected to read “Example 1. Transfer to grantor trust. In”.

Cynthia E. Grigsby,
Chief, Regulations Unit, Office of Special Counsel (Modernization and Strategic Planning).

[FR Doc. 00-25290 Filed 10-2-00; 8:45 am]

BILLING CODE 4830-01-P